INTERNATIONAL TRADE COMMISSION

[Investigation No. 337-TA-1359]

Certain Portable Battery Jump Starters and Components Thereof (II); Notice of a Commission Determination To Review in Part and, on Review, To Affirm a Final Initial Determination Finding No Violation; Termination of Investigation

AGENCY: U.S. International Trade Commission.

ACTION: Notice.

SUMMARY: Notice is hereby given that the U.S. International Trade Commission has determined to review in part and, on review, to affirm a final initial determination (“FID”) of the presiding administrative law judge (“ALJ”) finding no violation of section 337. The investigation is terminated.

FOR FURTHER INFORMATION CONTACT: Namo Kim, Esq., Office of the General Counsel, U.S. International Trade Commission, 500 E Street SW, Washington, DC 20436, telephone (202) 205-3459. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on April 18, 2023, based on a complaint filed on behalf of the NOCO Company (“NOCO”) of Glenwillow, Ohio. 88 FR 23686-87 (Apr. 18, 2023). The complaint, as amended, alleges violations of section 337 of the Tariff Act of 1930, as amended, 19 U.S.C. 1337 (“section 337”), based on the importation into the United States, the sale for importation, and/or the sale within the United States after importation of certain portable battery jump starters and components thereof by reason of infringement of certain claims of U.S. Patent Nos. 9,770,992 (“the '992 patent”); 10,328,808 (“the '808 patent”); 10,981,452 (“the '452 patent”); 11,254,213 (“the '213 patent”); and 11,447,023 (“the '023 patent”), as well as common law trade dress infringement, false designation of origin, false advertising, and unfair competition, the threat or effect of which is to destroy or substantially injure an industry in the United States. Id. at 23686. The amended complaint further alleges that a domestic industry exists. Id. The Commission instituted two separate investigations and defined the scope of the present investigation as whether there is a violation of section 337 based on the allegations of infringement of the asserted claims of the '992, '808, '452, '213, and '023 patents as to the accused products identified in the notice of investigation.

The notice of investigation named 19 respondents, and the Office of Unfair Import Investigations (“OUII”) is also named as a party. Id. at 23687. The 19 respondents are organized into the following four groups:

(1) Shenzhen Take Tools Co. Ltd. of Shenzhen, China; Shenzhenshi Dianjia Technology Co., Ltd., d/b/a Yesper Direct (Hong Kong Haowei Technology Co. Ltd.) of Hong Kong, China; and Guangzhou Sihao Trading Co., Ltd., d/b/a Snailhome (Audew) also d/b/a Shenzhen Xinshu Trading Co. Ltd. of Shenzhen, China (collectively, the “Non-Appearing Respondents”);

(2) Shenzhen Winplus Shenzhen Pinwang Industrial Technology Co., Ltd. of Shenzhen, China; Winplus North America, Inc. of Costa Mesa, California; and Winplus NA, LLC of Costa Mesa, California (collectively, the “Stipulated Respondents”);

(3) Shenzhen Carku Technology Co., Ltd. (“Carku”) of Shenzhen, China; Aukey Technology Co., Ltd. (“Aukey”) of Shenzhen, China; Metasee LLC (“Metasee”) of Pearland, Texas; Ace Farmer LLC (“Ace Farmer”) of Houston, Texas; Shenzhen Gooloo E-Commerce Co., Ltd. (“Gooloo Ecommerce”) of Shenzhen, China; Gooloo Technologies LLC (“Gooloo Technologies”) of Shenzhen, China; Shenzhen Konghui Trading Co., Ltd., d/b/a Hulkman Direct (“Konghui”) of Shenzhen, China; Hulkman LLC (“Hulkman”) of Santa Clara, California; Shenzhenshi Daosishangmao Youxiangongsi, d/b/a Fanttik Direct (“Daosi”) of Shenzhen, China; Shenzhenshi Xinmeitemuxiangbao Zhuangyouxiangongsi, d/b/a Thikpo (Spanarci) (“Xinmeite”) of Shenzhen, China; ChangShaHongMaoKai KeJiYouXianGongSi, d/b/a TopdonStarter (“HongMaoKai”) of Changsha, China; Shenzhenshi Shoudiankejiyouxiangongsi, d/b/a Solvtin (“Shoudian”) of Shenzhen, China (collectively, the “Carku Respondents”); and

(4) ADC Solutions Auto LLC, d/b/a Type S Auto (“ADC”) of Costa Mesa, California. Id. at 23686-87.

On June 23, 2023, the Commission amended the complaint and notice of investigation to add infringement allegations as to claims 1-13, 15-30, 32, 33, 35-44, and 46-57 of U.S. Patent No. 11,584,243 (“the '243 patent”). Order No. 5 (May 26, 2023), unreviewed by Comm'n Notice (June 26, 2023).

On December 21, 2023, the Commission terminated the investigation as to the following asserted claims: (i) claims 2, 4-9, 11-13, and 15-21 of the '992 patent; (ii) claims 2-10, 12-15, and 17 of the '808 patent; (iii) claims 2-16 of the '452 patent; (iv) claims 2-16 of the '213 patent; (v) claims 2-4, 6-18, 20-23, 25-28, 31, 33, 35-38, and 41-53 of the '023 patent; (vi) claims 3-9, 15-17, 19-25, 29, 30, 32, 33, 35-44, 46-49, 51-53, and 55-57 of the '243 patent. Order No. 18 (Nov. 27, 2023), unreviewed by Comm'n Notice (Dec. 21, 2023).

On February 7, 2024, the Commission terminated the investigation as to the '452 patent and the '213 patent. Order No. 24 (Jan. 9, 2024), unreviewed by Comm'n Notice (Feb. 7, 2024).

On March 11, 2024, the Commission terminated the investigation as to asserted claims 5, 24, 29-30, and 40 of the '023 patent and asserted claims 10-13, 26-28, and 50 of the '243 patent, and as to the Non-Appearing Respondents and the Stipulated Respondents. Order No. 26 (Feb. 9, 2024), unreviewed by Comm'n Notice (March 11, 2024).

On February 26 to March 1, 2024, the ALJ held an evidentiary hearing, with an additional hearing on March 14, 2024. The '023, '243, '992 and '808 patents remained asserted in the investigation as of the evidentiary hearing.

On July 5, 2024, the ALJ issued the FID finding no violation of section 337 with respect to the remaining asserted patents. Specifically, the FID finds that all asserted claims of the four patents are invalid as obvious under 35 U.S.C. 103. The FID finds that certain accused products infringe the asserted claims of the '023 and '243 patents, none of the accused products infringe the '992 and '808 patent, and none of the adjudicated redesigns put forth by the Carku Respondents and ADC (collectively, “Respondents”) infringe any of the four asserted patents. The FID also finds that the asserted claims of the '023 and '243 patents have not been shown to be invalid under 35 U.S.C. 112 based on lack of written description or lack of enablement and have not been shown to be unenforceable. The FID does not address invalidity under 35 U.S.C. 112 or unenforceability for the '992 and '808 patents because the parties did not raise these issues. Lastly, the FID finds that the domestic industry requirement, both the technical prong and the economic prong, is satisfied for all four asserted patents.

On July 19, 2024, the ALJ issued a Recommended Determination (“RD”) recommending, should the Commission find a violation of section 337, that the Commission issue: (1) a limited exclusion order against Respondents (i.e., the remaining respondents); and (2) cease-and-desist orders against the following respondents: ADC, Metasee, Gooloo, Konghui, Xinmeite, Shoudian, HongMaoKai, and Daosi. The RD further recommends that the Commission set a 100 percent bond during the period of Presidential review.

Also on July 19, 2024, NOCO petitioned for Commission review of the FID's findings on the '023 and '243 patents concerning: (1) construction of the claim terms “USB input circuit,” “USB charge circuit,” and “USB input connector” (collectively, “the USB terms”); (2) non-infringement with respect to the accused Carku and ADC products; and (3) invalidity. On the same day, Respondents contingently petitioned for Commission review of the FID's findings on the '023 and '243 patents concerning: (1) infringement with respect to the accused Carku and ADC products; (2) validity under § 112; and (3) NOCO's satisfaction of the domestic industry requirement. Further on the same day, OUII contingently petitioned for Commission review of the FID's findings on the '023 and '243 patents concerning: (1) infringement with respect to the accused ADC products and (2) additional non-infringement grounds concerning the accused Carku products. No party petitioned for review of the issues on non-infringement and invalidity as to the '992 and '808 patents, and enforceability as to the '023 and '243 patents.

On July 25, 2024, the Commission published its post-RD Federal Register notice seeking submissions on public interest issues raised by the relief recommended by the ALJ should the Commission find a violation. 89 FR 60451-52 (July 25, 2024). No responses from the public were filed. Similarly, no parties have submitted a statement on the public interest pursuant to Commission Rule 210.50(a)(4), 19 CFR 210.50(a)(4).

On July 29, 2024, NOCO responded to Respondents' and OUII's contingent petitions for review of the FID. On the same day, Respondents responded to NOCO's petition (but did not respond to OUII's contingent petition), and OUII responded to NOCO's and Respondents' petitions.

The Commission, having reviewed the record in this investigation, including the FID and the parties' petitions and responses thereto, has determined to review in part and, on review, to affirm the FID's finding of no violation. In particular, the Commission has determined to review and, on review, to clarify the FID's jurisdictional findings by explaining that the Commission's investigative authority is statutory and that the terms “subject matter jurisdiction,” “personal jurisdiction,” and “in rem jurisdiction” are not relevant to the Commission's investigative authority under section 337. The Commission has also determined to review and, on review, to affirm with supplemental analysis the FID's construction of the USB terms recited in the '023 and '243 patents. The Commission has further determined to review and, on review, to affirm with supplemental analysis the FID's findings that the asserted claims of the '023 and the '243 patents are invalid under 35 U.S.C. 103 and are not invalid under 35 U.S.C. 112. Lastly, the Commission has determined to review and, on review, to take no position with respect to the economic prong of the domestic industry requirement. The Commission has determined not to review the remainder of the FID.

The Commission issues its opinion herewith setting forth its determinations on certain issues. The investigation is terminated.

The Commission vote for this determination took place on October 7, 2024.

The authority for the Commission's determination is contained in section 337 of the Tariff Act of 1930, as amended (19 U.S.C. 1337), and in part 210 of the Commission's Rules of Practice and Procedure (19 CFR part 210).

By order of the Commission.
Issued: October 7, 2024.
Lisa Barton,
Secretary to the Commission.

[FR Doc. 2024-23548 Filed 10-10-24; 8:45 am]

BILLING CODE 7020-02-P